DEPARTMENT OF ENERGY

Federal Energy Regulatory Commission

[Project No. 8315-017]

Request for Soliciting Scoping Comments; Eagle Creek Sartell Hydro, LLC

Take notice that the following hydroelectric application has been filed with the Commission and is available for public inspection.

a. Type of Application: New Major License.

b. Project No.: P-8315-017.

c. Date Filed: February 28, 2023.

d. Applicant: Eagle Creek Sartell Hydro, LLC (Eagle Creek).

e. Name of Project: Sartell Hydroelectric Project.

f. Location: The existing project is located on the Mississippi River in Stearns and Benton Counties, Minnesota.

g. Filed Pursuant to: Federal Power Act 16 U.S.C. 791 (a)-825(r).

h. Applicant Contact: David H. Fox, Senior Director, Regulatory Affairs, Eagle Creek Sartell Hydro, LLC, 7315 Wisconsin Avenue, Suite 1100W Bethesda, Maryland 20814; phone: (201) 306-5616; David.Fox@eaglecreekre.com.

i. FERC Contact: Michael Davis at (202) 502-8339; or michael.davis@ferc.gov.

j. Deadline for filing scoping comments: December 23, 2024.

The Commission strongly encourages electronic filing. Please file motions to intervene and protests and requests for cooperating status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Sartell Hydroelectric Project (P-8315-017).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The Sartell Hydroelectric Project consists of the following existing facilities: (1) a 46-foot-high dam with four sections; (2) a powerhouse containing 11 generating units; (3) a radial Tainter-type gate section and bascule gate section; (4) a concrete non-overflow dam section; (5) an overflow spillway; (6) an earthen embankment; (7) a step-up transformer; and (8) a 715-foot-long transmission line. The reservoir encompasses approximately 2,350.5 acres with a gross storage capacity of 15,278.3 acre-feet at the reservoir surface elevation of 1,015 feet National Geodetic Vertical Datum 1929. The project has a combined total rated capacity of 8.95 megawatts.

m. The application can be viewed on the Commission's website at https://www.ferc.gov using the “eLibrary” link. Enter the project's docket number, excluding the last three digits in the docket number field to access the document (P-8315). For assistance, contact FERC Online Support at FERCOnlineSupport@ferc.gov, or call (866) 208-3676 (toll-free) or (202) 502 8659 (TTY).

You may also register online at http://www.ferc.gov/docs-filing/esubscription.asp to be notified via email of new filings and issuances related to this or other pending projects. For assistance, contact FERC Online Support.

n. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

o. Scoping Process: Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS. At this time, we do not anticipate holding an on-site scoping meeting. Instead, we are soliciting written comments and suggestions on the preliminary list of issues and alternatives to be addressed in the NEPA document, as described in scoping document 1 (SD1), issued November 21, 2024.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: November 21, 2024.
Debbie-Anne A. Reese,
Secretary.

[FR Doc. 2024-27966 Filed 11-27-24; 8:45 am]

BILLING CODE 6717-01-P